DEPARTMENT OF COMMERCE

International Trade Administration

A-570-890

Wooden Bedroom Furniture from the People's Republic of China: Extension of Time for the Preliminary Results of the New Shipper Review

AGENCY: Import Administration, International Trade Administration, Department of Commerce.

EFFECTIVE DATE: February 27, 2009.

FOR FURTHER INFORMATION CONTACT: Paul Stolz, AD/CVD Operations, Office 8, Import Administration, International Trade Administration, U.S. Department of Commerce, 14th Street and Constitution Avenue, NW, Washington, DC 20230; telephone: (202) 482-4474.

SUPPLEMENTARY INFORMATION:

Background

On September 9, 2008, the Department of Commerce (“the Department”) published in the Federal Register a notice of initiation of a new shipper review for shipments of wooden bedroom furniture from the People's Republic of China (“PRC”) produced and exported by Shanghai Fangjia Industry Co., Ltd. (“Shanghai Fangjia”). See Wooden Bedroom Furniture From the People's Republic of China: Initiation of New Shipper Review, 73 FR 52296 (September 9, 2008). The preliminary results of review are currently due no later than February 23, 2009.

Statutory Time Limits

Section 751(a)(2)(B)(iv) of the Tariff Act of 1930, as amended (“the Act”), provides that the Department will issue the preliminary results of a new shipper review of an antidumping duty order within 180 days after the day on which the review was initiated. See also 19 CFR 351.214(i)(1). The Act further provides that the Department may extend that 180-day period to 300 days if it determines that the case is extraordinarily complicated. See section 751(a)(2)(B)(iv) and 19 CFR 351.214 (i)(2).

Extension of Time Limit for Preliminary Results

The Department determines that this new shipper review involves extraordinarily complicated methodological issues, pertaining to the calculation of factors of production and the evaluation of the bona fide nature of Shanghai Fangjia's sales. Therefore, in accordance with section 751(a)(2)(B)(iv) of the Act and 19 CFR 351.214(i)(2), the Department is extending the time limit for these preliminary results by 120 days, until no later than June 22, 2009. The final results continue to be due 90 days after the publication of the preliminary results.

We are issuing and publishing this notice in accordance with sections 751(a)(2)(B)(iv) and 777(i) of the Act.

Dated: February 20, 2009.
John M. Andersen,
Acting Deputy Assistant Secretary for Import Administration.

[FR Doc. E9-4244 Filed 2-26-09; 8:45 am]

BILLING CODE 3510-DS-S